DEPARTMENT OF COMMERCE

International Trade Administration

[A-552-802]

Certain Frozen Warmwater Shrimp From the Socialist Republic of Vietnam: Preliminary Results of Antidumping Duty New Shipper Review

AGENCY: Import Administration, International Trade Administration, Department of Commerce.

SUMMARY: On February 1, 2005, the Department of Commerce (“Department”) published in the Federal Register the antidumping duty order on certain frozen warmwater shrimp (“shrimp”) from the Socialist Republic of Vietnam (“Vietnam”).¹ The Department is conducting a new shipper review (“NSR”) of the Order, covering the period of review (“POR”) of February 1, 2010, through July 31, 2010. If these preliminary results are adopted in our final results of review, we will instruct U.S. Customs and Border Protection (“CBP”) to assess antidumping duties on entries of subject merchandise during the POR for which the importer-specific assessment rates are above de minimis.

¹ See Notice of Amended Final Determination of Sales at Less Than Fair Value and Antidumping Duty Order: Certain Frozen Warmwater Shrimp From the Socialist Republic of Vietnam, 70 FR 5152 (February 1, 2005) (“Order”).

DATES: Effective Date: April 13, 2011.

FOR FURTHER INFORMATION CONTACT: Paul Walker, AD/CVD Operations, Office 9, Import Administration, International Trade Administration, U.S. Department of Commerce, 14th Street and Constitution Avenue, NW., Washington DC 20230; telephone: (202) 482-0413.

SUPPLEMENTARY INFORMATION:

Background

On August 26, 2010, pursuant to section 751(a)(2)(B)(i) of the Tariff Act of 1930, as amended (the “Act”), and section 351.214(c) of the Department's regulations, the Department received a NSR request from Quoc Viet Seaproducts Processing Trading and Import-Export Co., Ltd. (“Quoc Viet”). Quoc Viet certified that it was the producer and exporter of the subject merchandise upon which the request was based. On October 1, 2010, the Department published a notice of initiation of the NSR of the Order for Quoc Viet.² On September 28, 2010, the Department issued its original antidumping duty questionnaire to Quoc Viet. Between October 22, 2010, and February 3, 2011, Quoc Viet submitted responses to the original and supplemental sections A, C, D and Importer antidumping duty questionnaires.

² See Certain Frozen Warmwater Shrimp From the Socialist Republic of Vietnam: Initiation of Antidumping Duty New Shipper Review, 75 FR 60730 (October 1, 2010).

On January 4, 2011, the Department sent interested parties a letter requesting comments on surrogate country selection and information pertaining to valuing factors of production (“FOP”). On January 31, 2011, Quoc Viet submitted surrogate country comments and surrogate value (“SV”) data.³

³ See Quoc Viet's January 31, 2011 submission.

On March 23, 2011, the Department extended the deadline for the preliminary results of this review to April 14, 2011.⁴

⁴ See Certain Frozen Warmwater Shrimp From the Socialist Republic of Vietnam: Extension of Preliminary Results of Antidumping Duty New Shipper Review, 76 FR 16384 (March 23, 2011).

Scope of the Order

The scope of the order includes certain frozen warmwater shrimp and prawns, whether wild-caught (ocean harvested) or farm-raised (produced by aquaculture), head-on or head-off, shell-on or peeled, tail-on or tail-off,⁵ deveined or not deveined, cooked or raw, or otherwise processed in frozen form.

⁵ “Tails” in this context means the tail fan, which includes the telson and the uropods.

The frozen warmwater shrimp and prawn products included in the scope of the order, regardless of definitions in the Harmonized Tariff Schedule of the United States (“HTSUS”), are products which are processed from warmwater shrimp and prawns through freezing and which are sold in any count size.

The products described above may be processed from any species of warmwater shrimp and prawns. Warmwater shrimp and prawns are generally classified in, but are not limited to, the Penaeidae family. Some examples of the farmed and wild-caught warmwater species include, but are not limited to, white leg shrimp (Penaeus vannemei), banana prawn (Penaeus merguiensis), fleshy prawn (Penaeus chinensis), giant river prawn (Macrobrachium rosenbergii), giant tiger prawn (Penaeus monodon), redspotted shrimp (Penaeus brasiliensis), southern brown shrimp (Penaeus subtilis), southern pink shrimp (Penaeus notialis), southern rough shrimp (Trachypenaeus curvirostris), southern white shrimp (Penaeus schmitti), blue shrimp (Penaeus stylirostris), western white shrimp (Penaeus occidentalis) and Indian white prawn (Penaeus indicus).

Frozen shrimp and prawns that are packed with marinade, spices or sauce are included in the scope of the order. In addition, food preparations, which are not “prepared meals,” that contain more than 20 percent by weight of shrimp or prawn are also included in the scope of the order.

Excluded from the scope are: (1) Breaded shrimp and prawns (HTS subheading 1605.20.1020); (2) shrimp and prawns generally classified in the Pandalidae family and commonly referred to as coldwater shrimp, in any state of processing; (3) fresh shrimp and prawns whether shell-on or peeled (HTS subheadings 0306.23.0020 and 0306.23.0040); (4) shrimp and prawns in prepared meals (HTS subheading 1605.20.0510); (5) dried shrimp and prawns; (6) canned warmwater shrimp and prawns (HTS subheading 1605.20.1040); (7) certain dusted shrimp; and (8) certain battered shrimp. Dusted shrimp is a shrimp-based product: (1) That is produced from fresh (or thawed-from-frozen) and peeled shrimp; (2) to which a “dusting” layer of rice or wheat flour of at least 95 percent purity has been applied; (3) with the entire surface of the shrimp flesh thoroughly and evenly coated with the flour; (4) with the non-shrimp content of the end product constituting between four and 10 percent of the product's total weight after being dusted, but prior to being frozen; and (5) that is subjected to IQF freezing immediately after application of the dusting layer. Battered shrimp is a shrimp-based product that, when dusted in accordance with the definition of dusting above, is coated with a wet viscous layer containing egg and/or milk, and par-fried.

The products covered by the order are currently classified under the following HTSUS subheadings: 0306.13.0003, 0306.13.0006, 0306.13.0009, 0306.13.0012, 0306.13.0015, 0306.13.0018, 0306.13.0021, 0306.13.0024, 0306.13.0027, 0306.13.0040, 1605.20.1010 and 1605.20.1030. These HTSUS subheadings are provided for convenience and for customs purposes only and are not dispositive, but rather the written description of the scope of the order is dispositive.

Non-Market Economy Country Status

In every case conducted by the Department involving Vietnam, Vietnam has been treated as a non-market (“NME”) country. In accordance with section 771(18)(C)(i) of the Act, any determination that a foreign country is an NME country shall remain in effect until revoked by the administering authority.⁶ None of the parties to this proceeding have contested such treatment. Accordingly, we calculated normal value (“NV”) in accordance with section 773(c) of the Act, which applies to NME countries.

⁶ See Certain Frozen Fish Fillets From the Socialist Republic of Vietnam: Final Results of the Antidumping Duty Administrative Review and New Shipper Reviews, 74 FR 11349 (March 17, 2009).

Separate Rate Determination

In proceedings involving NME countries, there is a rebuttable presumption that all companies within the country are subject to government control and, thus, should be assessed a single antidumping duty rate. It is the Department's standard policy to assign all exporters of the merchandise subject to review in NME countries a single rate unless an exporter can affirmatively demonstrate an absence of government control, both in law (de jure) and in fact (de facto), with respect to exports. To establish whether a company is sufficiently independent to be entitled to a separate, company-specific rate, the Department analyzes each exporting entity in an NME country under the test established in the Final Determination of Sales at Less than Fair Value: Sparklers from the People's Republic of China, 56 FR 20588 (May 6, 1991) (“Sparklers”), as amplified by the Notice of Final Determination of Sales at Less Than Fair Value: Silicon Carbide From the People's Republic of China, 59 FR 22585 (May 2, 1994) (“Silicon Carbide”).

A. Absence of De Jure Control

The Department considers the following de jure criteria in determining whether an individual company may be granted a separate rate: (1) an absence of restrictive stipulations associated with an individual exporter's business and export licenses; and (2) any legislative enactments decentralizing control of companies.

In this NSR, Quoc Viet submitted complete responses to the separate rate section of the Department's NME questionnaire. The evidence submitted by Quoc Viet includes government laws and regulations on corporate ownership, business licenses, and narrative information regarding its operations and selection of management. The evidence provided by Quoc Viet supports a finding of a de jure absence of government control over each of its export activities. Thus, we believe that the evidence on the record supports a preliminary finding of an absence of de jure government control based on: (1) An absence of restrictive stipulations associated with the exporter's business license; and (2) the legal authority on the record decentralizing control over Quoc Viet.

B. Absence of De Facto Control

The absence of de facto government control over exports is based on whether the respondent: (1) Sets its own export prices independent of the government and other exporters; (2) retains the proceeds from its export sales and makes independent decisions regarding the disposition of profits or financing of losses; (3) has the authority to negotiate and sign contracts and other agreements; and (4) has autonomy from the government regarding the selection of management.⁷

⁷ See Silicon Carbide, 59 FR at 22587; Sparklers, 56 FR at 20589; see also Notice of Final Determination of Sales at Less Than Fair Value: Furfuryl Alcohol from the People's Republic of China, 60 FR 22544, 22545 (May 8, 1995).

In its questionnaire responses, Quoc Viet submitted evidence indicating an absence of de facto government control over its export activities. Specifically, this evidence indicates that: (1) Quoc Viet sets its own export prices independent of the government and without the approval of a government authority; (2) Quoc Viet retains the proceeds from its sales and makes independent decisions regarding the disposition of profits or financing of losses; (3) Quoc Viet has a general manager, branch manager or division manager with the authority to negotiate and bind the company in an agreement; (4) the general manager is selected by the board of directors or company employees, and the general manager appoints the deputy managers and the manager of each department; and (5) there is no restriction on any of either company's use of export revenues. Therefore, the Department preliminarily finds that Quoc Viet has established prima facie that it qualifies for a separate rate under the criteria established by Silicon Carbide and Sparklers.

New Shipper Review Bona Fide Analysis

Consistent with the Department's practice, we investigated the bona fide nature of the sale made by Quoc Viet in this NSR. We found that the sale by Quoc Viet was made on a bona fide basis.⁸ Based on our investigation into the bona fide nature of the sale, the questionnaire responses submitted by Quoc Viet, and the company's eligibility for separate rates (see Separate Rate Determination section above), we preliminarily determine that Quoc Viet has met the requirement to qualify as a new shipper during this POR. Therefore, for the purposes of these preliminary results, we are treating Quoc Viet's sale of subject merchandise to the United States as an appropriate transaction for this NSR.

⁸ For more detailed discussion of this issue, see Memorandum to the File, through Scot T. Fullerton, Program Manager, Office IX, from Paul Walker, Case Analyst, “Bona Fide Nature of the Sale in the Antidumping Duty New Shipper Review of Certain Warmwater Shrimp from the Socialist Republic of Vietnam: Quoc Viet Seaproducts Processing Trading and Import-Export Co., Ltd.,” dated concurrently with this notice.

Surrogate Country

When the Department conducts a review of imports from an NME country, section 773(c)(1) of the Act directs it to base NV, in most circumstances, on the NME producer's FOPs, valued in a surrogate market economy (“ME”) country or countries considered to be appropriate by the Department. In accordance with section 773(c)(4) of the Act, in valuing the FOPs, the Department shall utilize, to the extent possible, the prices or costs of FOPs in one or more ME countries that are: (1) at a level of economic development comparable to that of the NME country; and (2) significant producers of comparable merchandise. Further, pursuant to section 351.408(c)(2) of the Department's regulations, the Department will normally value FOPs in a single country, except for labor. The sources of the surrogate factor values are discussed under the “Normal Value” section below.⁹

⁹ See also Memorandum to the File, through Scot T. Fullerton, Program Manager, Office IX, “Fourth New Shipper Review of Frozen Warmwater Shrimp from Vietnam: Surrogate Values for the Preliminary Results,” dated concurrently with this notice (“SV Memo”).

As noted above, on January 4, 2011, the Department sent interested parties a letter requesting comments on surrogate country selection and information pertaining to valuing FOPs. On January 31, 2011, the Department received comments from Quoc Viet suggesting that the Department select Bangladesh as the surrogate country, as well as Bangladeshi SV data.¹⁰

¹⁰ See Quoc Viet's January 31, 2011 submission.

Pursuant to its practice, the Department received a list of potential surrogate countries from Import Administration's Office of Policy (“OP”).¹¹ The OP determined that Bangladesh, Pakistan, India, Sri Lanka, the Philippines and Indonesia were at a comparable level of economic development to Vietnam.¹² The Department considers the six countries identified by the OP in its Surrogate Country List as “equally comparable in terms of economic development.” ¹³ Thus, we find that Bangladesh, Pakistan, India, Sri Lanka, the Philippines, and Indonesia are all at an economic level of development equally comparable to that of Vietnam. We note that the Surrogate Country List is a non-exhaustive list of economically comparable countries.

¹¹ See Memorandum from Carole Showers, Director, Office of Policy, to Scot T. Fullerton, Program Manager, AD/CVD Operations, Office 9, “Request for a List of Surrogate Countries for New Shipper Review of the Antidumping Duty Order on Frozen Warmwater Shrimp from the Socialist Republic of Vietnam,” dated December 6, 2010 (“Surrogate Country List”).

¹² Id.

¹³ Id.

Quoc Viet submitted evidence that Bangladesh, Pakistan, India, Sri Lanka, the Philippines and Indonesia are all significant producers of comparable merchandise.¹⁴ However, while we find that these countries are economically comparable to Vietnam and produce comparable merchandise, we note that the record contains no publicly available SV factor information for Pakistan, India, Sri Lanka, the Philippines or Indonesia.

¹⁴ See Quoc Viet's January 31, 2011 submission at Exhibit 1.

With regard to Bangladesh, the record contains publicly available surrogate factor value information. Given the above-cited facts, we find that the information on the record shows that Bangladesh is an appropriate surrogate country because Bangladesh is at a similar level of economic development pursuant to section 773(c)(4) of the Act, is a significant producer of comparable merchandise, and has reliable, publicly available data for surrogate valuation purposes.

U.S. Price

For Quoc Viet's export price (“EP”) sale, we used the EP methodology, pursuant to section 772(a) of the Act, because the first sale to an unaffiliated purchaser was made prior to importation and constructed export price was not otherwise warranted by the facts on the record. We calculated EP based on cost and freight foreign port price to the first unaffiliated purchaser in the United States. We also deducted foreign inland freight, and foreign brokerage and handling from the starting price (or gross unit price), in accordance with section 772(c) of the Act. We reviewed the movement expenses incurred in Vietnam by Quoc Viet and found that they were provided by an NME vendor or paid for using Vietnamese currency. Thus, we based the deduction of these movement charges on SVs.¹⁵

¹⁵ See SV Memo for details regarding the SVs for movement expenses.

Normal Value

A. Methodology

Section 773(c)(1)(B) of the Act provides that the Department shall determine the NV using an FOP methodology if the merchandise is exported from an NME country and the information does not permit the calculation of NV using home-market prices, third-country prices, or constructed value under section 773(a) of the Act. The Department bases NV on FOPs because the presence of government controls on various aspects of NMEs renders price comparisons and the calculation of production costs invalid under the Department's normal methodologies.

Section 773(c)(1) of the Act provides that the Department shall determine the NV using an FOP methodology if: (1) the merchandise is exported from an NME country; and (2) the information does not permit the calculation of NV using home market prices, third country prices, or constructed value under section 773(a) of the Act.

B. Factor Valuations ¹⁶

¹⁶ In accordance with section 351.301(c)(3)(ii) of the Department's regulations, for the final results in an antidumping NSR, interested parties may submit publicly available information to value FOPs within 20 days after the date of publication of the preliminary results.

In accordance with section 773(c) of the Act, we calculated NV based on FOPs reported by Quoc Viet for the POR. To calculate NV, we multiplied the reported per-unit factor-consumption rates by publicly available Bangladeshi SVs. In selecting SVs, we considered the quality, specificity and contemporaneity of the data. As appropriate, we adjusted input prices by including freight costs to make them delivered prices. Specifically, we added to Bangladeshi import SVs a surrogate freight cost using the shorter of the reported distance from the domestic supplier to the factory of production, or the distance from the nearest seaport to the factory of production, where appropriate. This adjustment is in accordance with the Court of Appeals for the Federal Circuit's (“CAFC”) decision in Sigma Corp. v. United States, 117 F.3d 1401, 1407-1408 (Fed. Cir. 1997). Where we did not use Bangladeshi Import Statistics, we calculated freight based on the reported distance from the supplier to the factory.

In accordance with the OTCA 1988 legislative history, the Department continues to apply its long-standing practice of disregarding SVs if it has a reason to believe or suspect the source data may be subsidized.¹⁷ In this regard, the Department has previously found that it is appropriate to disregard such prices from India, Indonesia, South Korea and Thailand because we have determined that these countries maintain broadly available, non-industry specific export subsidies.¹⁸ Based on the existence of these subsidy programs that were generally available to all exporters and producers in these countries at the time of the POR, the Department finds that it is reasonable to infer that all exporters from India, Indonesia, South Korea and Thailand may have benefitted from these subsidies.

¹⁷ See Omnibus Trade and Competitiveness Act of 1988, Conf. Report to Accompany H.R. 3, H.R. Rep. No. 576, 100th Cong., 2nd Sess. (1988) (“OTCA 1988”) at 590.

¹⁸ See, e.g., Carbazole Violet Pigment 23 from India: Final Results of the Expedited Five-year (Sunset) Review of the Countervailing Duty Order, 75 FR 13257 (March 19, 2010) and accompanying Issues and Decision Memorandum at 4-5; Certain Cut-to-Length Carbon-Quality Steel Plate from Indonesia: Final Results of Expedited Sunset Review, 70 FR 45692 (August 8, 2005) and accompanying Issues and Decision Memorandum at 4; see Corrosion-Resistant Carbon Steel Flat Products from the Republic of Korea: Final Results of Countervailing Duty Administrative Review, 74 FR 2512 (January 15, 2009) and accompanying Issues and Decision Memorandum at 17, 19-20; see Final Affirmative Countervailing Duty Determination: Certain Hot-Rolled Carbon Steel Flat Products from Thailand, 66 FR 50410 (October 3, 2001) and accompanying Issues and Decision Memorandum at 23.

Additionally, we disregarded prices from NME countries.¹⁹ Finally, imports that were labeled as originating from an “unspecified” country were excluded from the average value, because the Department could not be certain that they were not from either an NME country or a country with general export subsidies.²⁰ Lastly, the Department has also excluded imports from Bangladesh into Bangladesh because there is no evidence on the record regarding what these data represent (e.g., re-importations, another category of unspecified imports, or the result of an error in reporting). Thus, these data do not represent the best available information upon which to rely for valuation purposes.²¹

¹⁹ See Tapered Roller Bearings and Parts Thereof, Finished and Unfinished, from the People's Republic of China; Final Results of 1998-1999 Administrative Review, Partial Rescission of Review, and Determination Not To Revoke Order in Part, 66 FR 1953 (January 10, 2001) and accompanying Issues and Decision Memorandum at Comment 1.

²⁰ See Notice of Final Determination of Sales at Less Than Fair Value and Negative Final Determination of Critical Circumstances: Certain Color Television Receivers from the People's Republic of China, 69 FR 20594 (April 16, 2004).

²¹ See Certain Frozen Warmwater Shrimp from the Socialist Republic of Vietnam: Final Results and Partial Rescission of Antidumping Duty Administrative Review, 75 FR 47771 (August 9, 2010) and accompanying Issues and Decision Memorandum at Comment 6.

Therefore, based on the information currently available, we have not used prices from these countries either in calculating the Bangladeshi import-based SVs or in calculating ME input values. In instances where an ME input was obtained solely from suppliers located in these countries, we used Bangladeshi import-based SVs to value the input.

To value Quoc Viet's raw shrimp input, we used data for Bangladesh from a study conducted by the Network of Aquaculture Centres in Asia-Pacific (“NACA”), an intergovernmental organization affiliated with the United Nation's (“UN”) Food and Agricultural Organization (“FAO”). The Department's practice when selecting the best available information for valuing FOPs, in accordance with section 773(c)(1) of the Act, is to select, to the extent practicable, SVs which are product-specific, representative of a broad-market average, publicly available, contemporaneous with the POR and exclusive of taxes and duties.²² The Department notes that the value of the main input, head-on, shell-on shrimp, is a critical FOP in the dumping calculation as it accounts for a significant percentage of NV. Moreover, the ability to value shrimp on a count-size basis is a significant consideration with respect to the data available on the record, as the subject merchandise and the raw shrimp input are both sold on a count-size specific basis. The Bangladeshi shrimp values within the NACA study are compiled by the UN's FAO from actual pricing records kept by Bangladeshi farmers, traders, depots, agents, and processors. The Bangladeshi shrimp values within the NACA study are publicly available, represent a broad-market average, are product-specific, count-size-specific, contemporaneous and represent actual transaction prices.²³

²² See Fresh Garlic from the People's Republic of China: Final Results and Partial Rescission of the Eleventh Administrative Review and New Shipper Reviews, 72 FR 34438 (June 22, 2007) and accompanying Issues and Decision Memorandum at Comment 2A.

²³ The calculation for shrimp and all other surrogate values listed below may be found in the SV Memo.

The Department used UN ComTrade Statistics, provided by the UN Department of Economic and Social Affairs' Statistics Division, as its primary source of Bangladeshi SV data to value the raw material and packing material inputs that Quoc Viet used to produce the merchandise under review during the POR, except where listed below.²⁴ For a detailed description of all SVs, see SV Memo. The data represents cumulative values for the calendar year 2007, for inputs classified by the Harmonized Commodity Description and Coding System number. As noted above, for each input value, we used the average value per unit for that input imported into Bangladesh from all countries that the Department has not previously determined to be NME countries, countries that the Department has determined to be countries which subsidized exports (i.e., Indonesia, South Korea, Thailand, and India), imports from unspecified countries and imports from Bangladesh into Bangladesh.

²⁴ This can be accessed online at: http://www.unstats.un.org/unsd/comtrade/.

It is the Department's practice to calculate price index adjustors to inflate or deflate, as appropriate, SVs that are not contemporaneous with the POR using the wholesale price index (“WPI”) for the subject country.²⁵ However, in this case, a WPI was not available for Bangladesh. Therefore, where publicly available information contemporaneous with the POR with which to value factors could not be obtained, SVs were adjusted using the Consumer Price Index (“CPI”) rate for Bangladesh, or the WPI for India or Indonesia (for certain SVs where Bangladeshi data could not be obtained), as published in the International Financial Statistics of the International Monetary Fund.

²⁵ See Notice of Preliminary Determination of Sales at Less Than Fair Value and Postponement of Final Determination: Hand Trucks and Certain Parts Thereof from the People's Republic of China, 69 FR 29509 (May 24, 2004).

Where necessary, the Department made currency conversions into U.S. dollars, in accordance with section 773A(a) of the Act, based on the exchange rates in effect on the dates of the U.S. sales, as certified by the Federal Reserve Bank. We relied on the daily exchange rates posted on the Import Administration Web site.²⁶

²⁶ See http://www.trade.gov/ia/, see also SV Memo.

On May 14, 2010, the CAFC in Dorbest Ltd. v. United States, 604 F.3d 1363, 1372 (CAFC 2010), found that the regression-based method for calculating wage rates, as stipulated by section 351.408(c)(3) of the Department's regulations, uses data not permitted by the statutory requirements laid out in section 773 of the Act (i.e., 19 U.S.C. 1677b(c)). The Department is continuing to evaluate options for determining labor values in light of the recent CAFC decision. However, for these preliminary results, we have calculated an hourly wage rate to use in valuing the respondent's reported labor input by averaging industry-specific earnings and/or wages in countries that are economically comparable to Vietnam and that are significant producers of comparable merchandise.

For the preliminary results of this NSR, the Department is valuing labor using a simple average industry-specific wage rate using earnings or wage data reported under Chapter 5B by the International Labor Organization (“ILO”). To achieve an industry-specific labor value, we relied on industry-specific labor data from the countries we determined to be both economically comparable to Vietnam, and significant producers of comparable merchandise. A full description of the industry-specific wage rate calculation methodology is provided in the SV Memo. The Department calculated a simple average industry-specific wage rate of $1.09 for these preliminary results. Specifically, for this review, the Department has calculated the wage rate using a simple average of the data provided to the ILO under Sub-Classification 15 of the ISIC-Revision 3 standard by countries determined to be both economically comparable to Vietnam and significant producers of comparable merchandise. The Department finds the two-digit description under ISIC-Revision 3 (“Manufacture of Food Products and Beverages”) to be the best available wage rate SV on the record because it is specific and derived from industries that produce merchandise comparable to the subject merchandise. Consequently, we averaged the ILO industry-specific wage rate data or earnings data available from the following countries found to be economically comparable to Vietnam and are significant producers of comparable merchandise: The Philippines, Egypt and Indonesia. For further information on the calculation of the wage rate, see SV Memo.

We valued electricity using data from the Bangladesh Ministry of Power, Energy, & Mineral Resources. This information was published on their Power Division's website. We valued water using 2007 data from the Asian Development Bank. We inflated the value using the POR average CPI rate. We valued diesel using data published by the World Bank in “Bangladesh: Transport at a Glance,” published in June 2006. We inflated the value using the POR average CPI rate.

To value truck freight and motorcycle freight, we used data published in 2008 Statistical Yearbook of Bangladesh published by the Bangladesh Bureau of Statistics. We inflated the value using the POR average CPI rate. We valued containerization using Indian information previously available on the Import Administration Web site. We inflated the value using the POR average WPI rate. We valued brokerage and handling using a price list of export procedures necessary to export a standardized cargo of goods in Bangladesh. The price list is compiled based on a survey case study of the procedural requirements for trading a standard shipment of goods by ocean transport in India that is published in Doing Business 2011: Bangladesh, published by the World Bank.

We valued the by-product using shell scrap values using a surrogate value for shrimp by-products based on a purchase price quote for wet shrimp shells from an Indonesian buyer of crustacean shells. Although we recognize that Quoc Viet reported by-products other than shells and that this surrogate value is not from Bangladesh, the primary surrogate country, this information represents the best information on the record and has been used in past case segments.²⁷ Moreover, we also note that this is the only surrogate value on the record for by-products, and as a consequence, is being used for these preliminary results. We inflated the value using the POR average WPI rate.²⁸

²⁷ See SV Memo which contains the following memorandum: Memorandum to Barbara E. Tillman, Director, Office of AD/CVD Enforcement VII, through Maureen Flannery, Program Manager, Office of AD/CVD Enforcement VII, from Christian Hughes and Adina Teodorescu, Case Analysts, “Surrogate Valuation of Shell Scrap: Freshwater Crawfish Tail Meat from the People's Republic of China (PRC), Administrative Review 9/1/00-8/31/00 and New Shipper Reviews 9/1/00-8/31/01 and 9/1/00-10/15/01.”

²⁸ Id.

To value factory overhead, selling, general and administrative expenses, and profit, we used the simple average of the 2009-2010 financial statement of Apex Foods Limited and the 2008-2009 financial statement of Gemini Seafood Limited, both of which are Bangladeshi shrimp processors.²⁹

²⁹ See SV Memo at Exhibit 8.

Preliminary Results of Review

The Department has preliminarily determined that the following dumping margin exists for the period February 1, 2010, through July 31, 2010:

Certain Frozen Warmwater Shrimp From Vietnam
Manufacturer/exporter | Margin
Quoc Viet | de minimis

Disclosure

The Department will disclose to parties of this proceeding the calculation performed in reaching the preliminary results within five days of the date of publication of this notice in accordance with section 351.224(b) of the Department's regulations.

Comments

In accordance with section 351.301(c)(3)(ii) of the Department's regulations, for the final results, interested parties may submit publicly available information to value FOPs within 20 days after the date of publication of these preliminary results. Interested parties must provide the Department with supporting documentation for the publicly available information to value each FOP. Additionally, in accordance with section 351.301(c)(1) of the Department's regulations, for the final results of this NSR, interested parties may submit factual information to rebut, clarify, or correct factual information submitted by an interested party within ten days of the applicable deadline for submission of such factual information. However, the Department notes that section 351.301(c)(1) of the Department's regulations permits new information only insofar as it rebuts, clarifies, or corrects information recently placed on the record.³⁰

³⁰ See Glycine from the People's Republic of China: Final Results of Antidumping Duty Administrative Review and Final Rescission, in Part, 72 FR 58809 (October 17, 2007) and accompanying Issues and Decision Memorandum at Comment 2.

In accordance with section 351.309(c)(ii) of the Department's regulations, interested parties may submit case briefs and/or written comments no later than 30 days after the date of publication of the preliminary results of this NSR. In accordance with section 351.309(d) of the Department's regulations, rebuttal briefs and rebuttals to written comments, limited to issues raised in such briefs or comments, may be filed no later than five days after the deadline for submitting the case briefs. The Department requests that interested parties provide an executive summary of each argument contained within the case briefs and rebuttal briefs.

Any interested party may request a hearing within 30 days of publication of these preliminary results.³¹ Requests should contain the following information: (1) The party's name, address, and telephone number; (2) the number of participants; and (3) a list of the issues to be discussed. Oral presentations will be limited to issues raised in the briefs. If we receive a request for a hearing, we plan to hold the hearing seven days after the deadline for submission of the rebuttal briefs at the U.S. Department of Commerce, 14th Street and Constitution Avenue, NW., Washington, DC 20230.

³¹ See section 351.310(c) of the Department's regulations.

The Department intends to issue the final results of this NSR, which will include the results of its analysis raised in any such comments, within 90 days of publication of these preliminary results, pursuant to section 351.214(i) of the Department's regulations.

Assessment Rates

Upon issuance of the final results, the Department will determine, and CBP shall assess, antidumping duties on all appropriate entries covered by this NSR. The Department intends to issue assessment instructions to CBP 15 days after the publication date of the final results of this NSR. If these preliminary results are adopted in our final results of review, the Department shall determine, and CBP shall assess, antidumping duties on all appropriate entries. Pursuant to section 351.212(b)(1) of the Department's regulations, we will calculate importer-specific (or customer) ad valorem duty assessment rates. We will instruct CBP to assess antidumping duties on all appropriate entries covered by this review if any importer-specific assessment rate calculated in the final results of this review is above de minimis.

Cash-Deposit Requirements

The following cash deposit requirement will be effective upon publication of the final results of this NSR for all shipments of subject merchandise produced and exported from Quoc Viet entered, or withdrawn from warehouse, for consumption on or after the publication date, as provided for by section 751(a)(2)(C) of the Act: (1) for subject merchandise produced and exported by Quoc Viet, the cash deposit rate will be the rate established in the final results of this NSR. If the cash deposit rate calculated in the final results is zero or de minimis, no cash deposit will be required for the specific producer-exporter combination listed above. The cash deposit requirement, when imposed, shall remain in effect until further notice.

Notification to Importers

This notice serves as a preliminary reminder to importers of its responsibility under section 351.402(f)(2) of the Department's regulations to file a certificate regarding the reimbursement of antidumping duties prior to liquidation of the relevant entries during this POR. Failure to comply with this requirement could result in the Secretary's presumption that reimbursement of antidumping duties occurred and the subsequent assessment of double antidumping duties.

We are issuing and publishing this notice in accordance with sections 751(a)(2)(B) and 777(i) of the Act, and section 351.214(h) and 351.221(b)(4) of the Department's regulations.

Dated: April 6, 2011.
Ronald K. Lorentzen,
Deputy Assistant Secretary for Import Administration.

[FR Doc. 2011-8892 Filed 4-12-11; 8:45 am]

BILLING CODE 3510-DS-P